DEPARTMENT OF HEALTH AND HUMAN SERVICES

Substance Abuse and Mental Health Services Administration

Agency Information Collection Activities: Submission for OMB Review; Comment Request

Periodically, the Substance Abuse and Mental Health Services Administration (SAMHSA) will publish a list of information collection requests under OMB review, in compliance with the Paperwork Reduction Act (44 U.S.C. Chapter 35). To request a copy of these documents, call the SAMHSA Reports Clearance Officer on (301) 443-7978.

The Status of PASRR and Mental Health Services for Persons in Nursing Facilities: Case Studies of Four States—New—SAMHSA's Center for Mental Health Services is sponsoring an assessment of the effectiveness of the Preadmission Screening and Resident Review (PASRR) program, which is a required component of every State's Medicaid plan. Data will be collected from administrators and staff in 24 nursing facilities in four states (six facilities per state). In addition, data will be collected from a total of 100 residents of nursing facilities in two of the states. Data collection for this project will be conducted over a 4-month period.

Nursing facility variables of interest include the following: availability of mental health services; change in condition procedures; alternative placement procedures; and experience with PASRR.

Variables of interest for the nursing facility residents include: mental health symptomotology, functioning, and mental health service access. Data will be entered and managed electronically. The total estimated respondent burden is summarized in the table below.

Respondent | Number of respondents | Responses/respondents | Average burden/response (hrs.) | Total burden (hrs.)
Nursing Facility Administrators | 24 | 1 | 1.0 | 24
Nursing Facility Staff | 48 | 1 | 1.0 | 48
Nursing Facility Residents | 100 | 1 | .5 | 50
Total | 172 |  |  | 122

Written comments and recommendations concerning the proposed information collection should be sent within 30 days of this notice to: Lauren Wittenberg, Human Resources and Housing Branch, Office of Management and Budget, New Executive Office Building, Room 10235, Washington, DC 20503.

Dated: June 28, 2001.
Richard Kopanda,
Executive Officer, SAMHSA.

[FR Doc. 01-16922 Filed 7-5-01; 8:45 am]

BILLING CODE 4162-20-P